DEPARTMENT OF THE INTERIOR

Bureau of Land Management

[BLM_CO_FRN_MO4500176946]

Public Meeting of the Northwest District Resource Advisory Council, Colorado

AGENCY: Bureau of Land Management, Interior.

ACTION: Notice of public meeting.

SUMMARY: In accordance with the Federal Land Policy and Management Act of 1976 and the Federal Advisory Committee Act of 1972, the U.S. Department of the Interior, Bureau of Land Management (BLM) Colorado's Northwest Resource Advisory Council (RAC) is announcing its 2024 winter meeting.

DATES: The Northwest RAC will meet in-person on February 28, 2024, from 10 a.m. to 4 p.m. Mountain Time (MT). The meeting is open to the public.

ADDRESSES: The meeting will be held at the BLM's Little Snake Field Office, 455 Emerson St., Craig, CO 81625. A virtual participation option will be offered through the Zoom platform. Registration for the virtual meeting will be available on the RAC's web page 30 days in advance of the meeting at https://www.blm.gov/get-involved/resource-advisory-council/near-you/colorado/northwest-rac.

FOR FURTHER INFORMATION CONTACT: JD Emerson, Public Affairs Specialist; BLM Northwest District Office, 455 Emerson St., Craig, CO, 81625; telephone: (970) 826-5101; email: jemerson@blm.gov. Individuals in the United States who are deaf, deafblind, hard of hearing, or have a speech disability may dial 711 (TTY, TDD, or Tele Braille) to access telecommunications relay services for contacting JD Emerson. Individuals outside the United States should use the relay services offered within their country to make international calls to the point-of-contact in the United States.

SUPPLEMENTARY INFORMATION: The 15-member Northwest RAC advises the Secretary of the Interior, through the BLM, on a variety of public land issues in the Northwest District, which includes the Kremmling, Little Snake, and White River Field Offices; and the Upper Colorado River Valley District, which includes the Grand Junction and Colorado River Valley Field Offices along with the Dominguez-Escalante and McInnis Canyons National Conservation Areas. Agenda items include field manager updates, discussions on orphaned wells, planning updates, and a presentation by Colorado Parks and Wildlife on sage grouse.

A public comment period is scheduled for 3 p.m. MT. Comments may be limited due to time constraints. The public may present written comments to the Northwest RAC at least 2 weeks in advance to the meeting to the contact listed in the FOR FURTHER INFORMATION CONTACT section of this notice. Please include “RAC Comment” in your submission. Before including your address, phone number, email address, or other personal identifying information in your comment, you should be aware that your entire comment, including your personal identifying information, may be made publicly available at any time. While you can ask us in your comment to withhold your personal identifying information from public review, we cannot guarantee that we will be able to do so.

Please make requests in advance for sign-language interpreter services, assistive listening devices, or other reasonable accommodations. We ask that you contact the individual listed in the FOR FURTHER INFORMATION CONTACT at least 7 business days prior to the meeting to give the Department of the Interior sufficient time to process your request. All reasonable accommodation requests are managed on a case-by-case basis.

Detailed meeting minutes for the RAC meetings will be maintained in the Northwest District Office and will be available for public inspection and reproduction during regular business hours within 90 days following the meeting. Previous minutes and agendas are also available on the RAC's web page listed in the ADDRESSES section of this notice.

(Authority: 43 CFR 1784.4-2)

Douglas J. Vilsack,
BLM Colorado State Director.

[FR Doc. 2024-02762 Filed 2-9-24; 8:45 am]

BILLING CODE 4331-16-P